DEPARTMENT OF COMMERCE

International Trade Administration

[A-570-875]

Non-Malleable Cast Iron Pipe Fittings from the People's Republic of China: Postponement of Preliminary Determination of Antidumping Duty Investigation

AGENCY: Import Administration, International Trade Administration, Department of Commerce.

EFFECTIVE DATE: August 6, 2002.

FOR FURTHER INFORMATION CONTACT: Ronald Trentham or Sam Zengotitabengoa at (202) 482-6320 or (202) 482-4195, respectively; AD/CVD Enforcement, Office 4, Group II, Import Administration, Room 1870, International Trade Administration, U.S. Department of Commerce, 14th Street and Constitution Avenue, NW, Washington, DC 20230.

SUPPLEMENTARY INFORMATION:

Applicable Statute and Regulations

Unless otherwise indicated, all citations to the Tariff Act of 1930, as amended (the Act), are references to the provisions effective January 1, 1995, the effective date of the Uruguay Round Agreements Act. In addition, unless otherwise indicated, all citations to the Department's regulations are to the regulations at 19 CFR part 351 (2002).

Statutory Time Limits

Section 733(b)(1)(A) of the Act, requires the Department of Commerce (the Department) to issue the preliminary determination of an antidumping duty investigation within 140 days after the date of initiation. However, if the petitioner makes a timely request for an extension of the period, section 733(c)(1)(A) of the Act allows the Department to postpone the preliminary determination until not later than 190 days after the date of initiation.

Background

On March 13, 2002, the Department initiated an antidumping duty investigation of non-malleable cast iron pipe fittings from the People's Republic of China. See Notice of Initiation of Antidumping Investigation: Non-malleable Cast Iron Pipe Fittings from the People's Republic of China, 67 FR 12966 (March 20, 2002). The notice stated that the Department would issue its preliminary determination no later than 140 days after the date of initiation. The preliminary determination currently is due no later than July 31, 2002.

Extension of Preliminary Determination

On July 5, 2002, the Department received a timely request for postponement of the preliminary determination from Anvil International Inc. and Ward Manufacturing Inc., (hereinafter, the petitioners), in accordance with section 733(c)(1)(A) of the Act and 19 CFR 351.205(e). Petitioners requested an extension to provide themselves and the Department with more time to review respondents' submissions and to allow the Department to request and analyze additional information from respondents, if needed. There are no compelling reasons for the Department to deny the petitioners' request. Therefore, pursuant to section 733(c)(1)(A) of the Act, the Department is postponing the preliminary determination until September 19, 2002.

This notice of postponement is in accordance with section 733(c)(2) of the Act and 19 CFR 351.205(f).

Dated: July 11, 2002.
Faryar Shirzad,
Assistant Secretary for Import Administration.

[FR Doc. 02-19820 Filed 8-5-02; 8:45 am]

BILLING CODE 3510-DS-S